DEPARTMENT OF AGRICULTURE

Food and Nutrition Service

Agency Information Collection Activities: Proposed Collection; Comment Request—National School Lunch Program and School Breakfast Program Access, Participation, Eligibility, and Certification Study II (APEC-II Study)

AGENCY: Food and Nutrition Service (FNS), USDA.

ACTION: Notice.

SUMMARY: In accordance with the Paperwork Reduction Act of 1995, this notice invites the general public and other public agencies to comment on the proposed information collection for the APEC-II Study.

DATES: Written comments must be received by April 9, 2012.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate, automated, electronic, mechanical, or other technological collection techniques or other forms of information technology.

Comments may be sent to: Steven Carlson, Office of Research and Analysis, Food and Nutrition Service, USDA, 3101 Park Center Drive, Room 1014, Alexandria, VA 22302. Comments may also be submitted via fax to the attention of Steven Carlson at 703-305-2576 or via email to Steve.Carlson@fns.usda.gov. Comments will also be accepted through the Federal eRulemaking Portal. Go to http://www.regulations.gov, and follow the online instructions for submitting comments electronically.

All written comments will be open for public inspection at the Office of Research and Analysis, Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION: Title: National School Lunch Program and School Breakfast Program Access, Participation, Eligibility, and Certification Study II (APEC-II Study).

OMB Number: 0584-0530.

Expiration Date: Not yet determined.

Type of Request: Reinstatement.

Abstract: The Improper Payments Information Act of 2002, Public Law 107-300, requires the United States Department of Agriculture (USDA) to identify and reduce erroneous payments in various programs, including the National School Lunch Program (NSLP) and School Breakfast Program (SBP). An OMB directive, issued May 21, 2003, states that an annual erroneous payment estimate is the gross (not net) total of both overpayments and underpayments, i.e., the sum of the absolute value of overpayments and underpayments. To comply with the Improper Payments Information Act of 2002, USDA needs a reliable measure to estimate NSLP and SBP erroneous payments on an annual basis. The Access, Participation, Eligibility, and Certification (APEC) study was conducted by FNS under OMB Number 0584-0530, expired August 31, 2008, and provided the first reliable national estimates of erroneous payments for the NSLP and SBP. Information was collected during the 2005-06 school year and results were released in November 2007.

USDA is seeking to renew OMB Clearance 0584-0530 granted on 08/2005 for The Access, Participation, Eligibility, and Certification (APEC) study. The new study will produce national estimates of overpayment, underpayment and overall erroneous payments made under the National School Lunch Program (NSLP) and the School Breakfast Program (SBP). The study will measure certification error and meal counting and claiming error for School Year (SY) 2012-2013; and develop and validate estimation models to be used by USDA's FNS staff for updating the erroneous payment estimate annually with NSLP and SBP administrative records and extant data (i.e. without extensive collection of new data between national studies). Models are being developed because it would be cost prohibitive to conduct a large nationally representative data collection effort to measure improper payments comprehensively on an annual basis. The development of an estimation model to produce updated annual estimates using available extant data is a pragmatic approach to meeting the intent of the Improper Payments Information Act of 2002. In addition, this study will produce separate estimates of erroneous payments for Local Education Agencies participating in the Community Eligibility Option and will examine alternatives to develop estimates of erroneous payment estimates at the State level. Data collected from school districts and households will be used to produce estimates of erroneous payments in at least one state and to create and validate estimation models for generating annual estimates of erroneous payments at the State level.

In School Year 2012-2013, on-site data collection activities will be conducted in a nationally representative sample of school districts and schools across the 48 contiguous States and the District of Columbia. Data to be collected will include school administrative records, household income from parents/guardians, direct observation of school meal transactions and other information that will inform this study. OMB approval will be requested for the data collection instruments to be used for the APEC-II Study.

Affected Public: State Agencies (School district staff, school staff) and Individual/households.

Respondent Type: Staff in school districts and schools participating in the National School Lunch Program and the School Breakfast Program; student households certified for or having applied for free or reduced price meals.

Estimated Number of Respondents: 8,075: Sample members are estimated to include: (a) 176 School Food Service Directors (the total estimated number of respondents to complete the SFA survey and other collected information is 167, FNS anticipates 9 will not complete this survey); (b) 528 school financial administrative staff; (c) 528 school liaisons; and we anticipate 100 percent participation from these two groups (d) 6,843 households (the total estimated number of respondents to the household who will complete the survey is 5,474; we anticipate 1,369 will not complete the survey).

Estimated Number of Responses per Respondent: Most of the respondents will fill out 3 separate instruments at one time and individual household will participant in 1 survey (the number of forms are 3 from School Food Service Directors, 3 from School Financial Administrators, 2 from School Liaisons and 1 from Households). Multiple responses will be obtained from most respondents with the exception of households, who will be interviewed once.

Estimated Time per Response: The estimated average response time will range from 45 minutes for the household interview to 170 minutes for School Food Service Directors to complete fact sheets, provide claim data and be interviewed.

Estimated Total Annual Burden on Respondents: The total estimated response time is 5,836.85 hours. See the table below for estimated total annual burden.

Affected public | Respondent | Estimated number of respondents | Responses annually per respondent | Total annual responses | Estimated average number of hours per response | Estimated total annual hours of response burden
State Agencies | School Food Service Directors
| Fact Sheet
| Completed | 167 | 1 | 167 | 1.5 | 250.5
| Attempted | 9 | 1 | 9 | 0.033 | 0.297
| SFA Survey
| Completed | 167 | 1 | 167 | 0.333 | 55.611
| Attempted | 9 | 1 | 9 | 0.083 | 0.747
| Reimbursement Claims Data
| Completed | 167 | 1 | 167 | 1 | 167
| Attempted | 9 | 1 | 9 | 0.083 | 0.747
| School Financial Administrators
| Roster Verification Form
| Completed | 528 | 1 | 528 | 0.25 | 132
| School Meal Count Verification Form
| Completed | 528 | 1 | 528 | 1 | 528
| Meal Transaction Observation Form
| Completed | 528 | 1 | 528 | 0.25 | 132
| School Liaisons
| Student Certification and Enrollment Form
| Completed | 528 | 1 | 528 | 0.5 | 264
| Meal Claims
| Completed | 528 | 1 | 528 | 0.25 | 132
| SUBTOTALS | 1,232 |  | 3,168 |  | 1,662.90
| Households
| Household Survey
| Completed | 5,474.00 | 1 | 5,474 | 0.75 | 4,105.50
| Attempted | 1,369 | 1 | 1,369 | 0.05 | 68.45
| SUBTOTALS | 6,843 |  | 6,843 |  | 4,173.95
| GRAND TOTAL | 8,075 |  | 10,011 |  | 5,836.85

Dated: February 3, 2012.
Jeffrey J. Tribiano,
Acting Administrator, Food and Nutrition Service.

[FR Doc. 2012-2966 Filed 2-8-12; 8:45 am]

BILLING CODE 3410-30-P